ENVIRONMENTAL PROTECTION AGENCY

[FRL-7006-9]

Massachusetts Marine Sanitation Device Standard; Notice of Determination

On May 23, 2001, notice was published that the State of Massachusetts had petitioned the Regional Administrator, Environmental Protection Agency, to determine that adequate facilities for the safe and sanitary removal and treatment of sewage from all vessels are reasonably available for the Three Bay/Centerville Harbor Area in the Town of Barnstable, County of Barnstable, State of Massachusetts. The petition was filed pursuant to Section 312(f)(3) of Public Law 92-500, as amended by Public Laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to me by the State of Massachusetts certified that there are two public pump-out facilities located within the proposed area to service vessels in Three Bay/Centerville Harbor Area.

There is a self service pumpout trailer unit located at the Oyster Harbor Marina, with a holding capacity of 250 gallons, and provides access for vessels up to 50 feet in length and a draft of 4 feet at mean low water. This facility is available daily from June 15 through September 15 from approximately 0800 to 1700 (8am to 5pm). The second pumpout facility is a pumpout boat operated by the Harbormasters Office, and docked at the Oyster Harbor Marina when not in use. The boat has a holding capacity of 300 gallons. The pumpout boat is available Wednesday through Sunday from 0930 to 1630 (9:30am-4:30pm) from Memorial Day to Thanksgiving. The pump-out boat is accessible by VHF marine radio via Channel 9 and by calling the Oyster Harbor Marine and Environmental Affairs Division (MEAD) in Barnstable at (508) 790-6273.

The waste from the pump-out boat is off loaded to the trailer unit then transported to the Barnstable Water Pollution Control Facility. The Barnstable Board of Health issues a waste permit for this disposal.

The town of Barnstable maintains public facilities at four locations, Loop Beach, Craigville Beach, Covells Beach and Dowse's Beach and are seasonal. In addition, the three marinas in the area provide on-shore toilet facilities for marina patrons and their guests.

The number of mooring permits indicate that 1,667 vessels reside within the Three Bay/Centerville Harbor Area and 1584 are identified as recreational and 83 are commercial vessels. The Three Bay/Centerville Harbor Area is primarily a “parking lot” harbor and 70% of the vessel population is under 25 feet in length, and therefore do not have any type of Marine Sanitation Device (MSD). There are a number of locations in the Three Bay/Centerville Harbor Area with public launching ramps, however, the size and condition of the ramps and the depth of the water limit use to vessels 25 feet and under. In addition to the vessels that reside in the Complex, there is a transient population estimated at 110 vessels which have MSD's.

The resources of the Three Bay/Centerville Harbor Area are recreational and commercial. There are four public beaches, the Dead Neck Audubon Bird/Wildlife Refuge, and town conservation lands located within the area. The Three Bay/Centerville Harbor Area is also used by both recreational and commercial shell fishermen for the harvest of quahogs, soft-shell clams.

Therefore, based on an examination of the petition and its supporting information, which included a site visit by EPA New England staff, I have determined that adequate facilities for the safe and sanitary removal and treatment of sewage from all vessels are reasonably available for the areas covered under this petition. The area includes Cotuit Bay, West Bay, East Bay, and Squaw Island Marsh, north of a line drawn 500 feet south of their mouths at Nantucket Sound. The area also includes the following sub-embayments: North Bay, Prince Cove, Marstons Mills River South of Route 28, Scudder Bay South of Bumps River Road, Bumps River East of Bumps River Road, Centerville River West of Craigville Beach Road, and Halls Creek South of Craigville Beach Road. The proposed NDA encompasses approximately 2,150 surface acres in the Southwest corner in the Town of Barnstable. The area is roughly bounded by: 41° 36′ 40.0″ N by 70° 26′ 41.1″ W, 41° 37′ 26.9″ N by 70° 19′ 05.4″ W, 41° 38′ 19.8″ N by 70° 19′ 21.9″ W, and 41° 39′ 03.2″N-70° 24′ 53.8″ W.

This determination is made pursuant to Section 312(f)(3) of Public Law 92-500, as amended by Public Laws 95-217 and 100-4.

Dated: June 22, 2001.
Ira Leighton,
Acting Regional Administrator.

[FR Doc. 01-16942 Filed 7-5-01; 8:45 am]

BILLING CODE 6560-50-P